DEPARTMENT OF HEALTH AND HUMAN SERVICES

National Institutes of Health

National Cancer Institute; Amended Notice of Meeting

Notice is hereby given of a change in the meeting of the National Cancer Institute Special Emphasis Panel, March 1, 2019, 11:00 a.m. to March 1, 2019, 2:00 p.m., National Cancer Institute Shady Grove Campus, Rockville, MD 20850 which was published in the Federal Register on February 5, 2019, 84 FR 1768.

This meeting notice is amended to change the meeting time on March 1, 2019 to 10:00 a.m. to 1:00 p.m. The meeting is closed to the public.

Dated: February 7, 2019.
Melanie J. Pantoja,
Program Analyst, Office of Federal Advisory Committee Policy.

[FR Doc. 2019-02128 Filed 2-12-19; 8:45 am]

BILLING CODE 4140-01-P